DEPARTMENT OF TRANSPORTATION

Office of the Secretary

Senior Executive Service Performance Review Boards Membership

AGENCY: Department of Transportation (DOT).

ACTION: Notice of Performance Review Board (PRB) appointments.

SUMMARY: DOT publishes the names of the persons selected to serve on the various Departmental PRBs as required by 5 U.S.C. 4314(c)(4).

FOR FURTHER INFORMATION CONTACT: John Budnick, Acting Departmental Director, Office of Human Resource Management, (202) 366-4088.

SUPPLEMENTARY INFORMATION: The persons named below have been selected to serve on one or more Departmental PRBs.

Issued in Washington, DC, on June 21, 2000.
Melissa J. Allen,
Assistant Secretary for Administration.

Federal Railroad Administration

Jane H. Bachner, Deputy Associate Administrator for Industry and Intermodal Policy, Federal Railroad Administration

Ray Rogers, Associate Administrator for Administration and Finance, Federal Railroad Administration

Charles White, Associate Administrator for Policy and Program Development, Federal Railroad Administration

Rosalind A. Knapp, Deputy General Counsel, Office of the Secretary

Jerry Hawkins, Director, Office of Human Resources, Federal Highway Administration

Luz A. Hopewell, Director, Office of Small and Disadvantaged Business Utilization, Office of the Secretary

Federal Transit Administration

Janet L. Sahaj, Deputy Associate Administrator, Office of Program Management, Federal Transit Administration

Michael Winter, Associate Administrator for Budget and Policy, Federal Transit Administration

Rosalind A. Knapp, Deputy General Counsel, Office of the Secretary

Richard M. Biter, Deputy Director, Office of Intermodalism, Office of the Secretary

Glenda Tate, Assistant Administrator for Human Resource Management, Federal Aviation Administration

Jerry A. Hawkins, Director, Office of Human Resources, Federal Highway Administration

Office of Inspector General

Joyce N. Fleischman, Deputy Inspector General, Department of Agriculture

John J. Connors, Deputy Inspector General, Department of Housing and Urban Development

Judith J. Gordon, Assistant Inspector General for Systems Evaluation, Department of Commerce

Nancy Hendricks, Assistant Inspector General for Audit, Federal Emergency Management Administration

Steven A. McNamara, Assistant Inspector General for Audit, Department of Education

Everett Mosley, Deputy Inspector General, Agency for International Development

Robert S. Terjesen, Assistant Inspector General for Investigations, Department of State

Joseph R. Willever, Deputy Inspector General, Office of Personnel Management

Thomas J. Bondurant, Assistant Inspector General for Investigations, Department of Justice

Allen P. Fallin, Assistant Inspector General for Investigations, Environmental Protection Agency

Elissa Karpf, Deputy Assistant Inspector General for External Audits, Environmental Protection Agency

Michael Phelps, Deputy Assistant Inspector General for Auditing, Department of Housing and Urban Development

Coast Guard

RADM F.L. Ames, Assistant Commandant for Human Resources, United States Coast Guard

RADM T.M. Cross, Assistant Commandant for Operations, United States Coast Guard

RADM Joyce M. Johnson, Director, Health and Safety Directorate, United States Coast Guard

RADM D.R. Nicholson, Director of Resources, United States Coast Guard

RADM P.M. Stillman, Assistant Commandant for Congressional and Public Affairs, United States Coast Guard

RADM R.F. Silva, Assistant Commandant for Systems, United States Coast Guard

RADM K.T. Venuto, Director of Operations Policy, United States Coast Guard

RADM J.W. Underwood, Director, Office of Intelligence and Security, Office of the Secretary

Janet L. Sahaj, Deputy Associate Administrator, Office of Program Management, Federal Transit Administration

Charles White, Associate Administrator for Policy and Program Development, Federal Railroad Administration

Jerry Hawkins, Director, Office of Human Resources, Federal Highway Administration

Linda Lawson, Director, Office of Economics, Office of the Secretary

National Highway Traffic Safety Administration

Herman Simms, Associate Administrator for Administration, National Highway Traffic Safety Administration

Raymond Owings, Associate Administrator for Research and Development, National Highway Traffic Safety Administration

Kenneth Weinstein, Associate Administrator for Safety Assurance, National Highway Traffic Safety Administration

Frank Seales, Chief Counsel, National Highway Traffic Safety Administration

Patricia Prosperi, Principal, TASC Information Services, TASC

Luz A. Hopewell, Director, Office of Small and Disadvantaged Business Utilization, Office of the Secretary

Federal Highway Administration

Vincent F. Schimmoller, Program Manager, Infrastructure, Federal Highway Administration

Christine M. Johnson, Program Manager, Operations, Federal Highway Administration

Arthur E. Hamilton, Program Manager, Federal Lands Highway, Federal Highway Administration

Eugene W. Cleckley, Director, Southern Resource Center, Federal Highway Administration

Michael J. Vecchietti, Director of Administration, Federal Highway Administration

Charlotte M. Adams, Associate Administrator for Planning, Federal Transit Administration

Nadine Hamilton, Deputy Assistant Secretary for Governmental Affairs, Office of the Secretary

Maritime Administration

Bruce J. Carlton, Associate Administrator for Policy and International Trade, Maritime Administration

James J. Zok, Associate Administrator for Shipping Analysis and Cargo Preference, Maritime Administration

Margaret D. Blum, Associate Administrator for Port, Intermodal and Environmental Activities, Maritime Administration

John L. Mann, Jr., Associate Administrator for Administration, Maritime Administration

James E. Caponiti, Associate Administrator for National Security, Maritime Administration

Bonnie M. Green, Deputy Administrator for Inland Waterways and Great Lakes, Maritime Administration

Jerry A. Hawkins, Director, Office of Human Resources, Federal Highway Administration

Office of the Secretary

Transportation Administrative Service Center

Bureau of Transportation Statistics

Jamie Williams, Director, Executive Secretariat, Office of the Secretary

Linda Lawson, Director, Office of Economics, Office of the Secretary

Randall Bennett, Director, Office of Aviation and International Economics, Office of the Secretary

Roberta D. Gabel, Assistant General Counsel for Environmental, Civil Rights, and General Law, Office of the Secretary

Douglas Leister, Executive Assistant, Office of the Secretary

Beverly Pheto, Director, Office of Budget and Program Performance, Office of the Secretary

Patricia Prosperi, Principal, TASC Information Services, TASC

Edward L. Thomas, Associate Administrator for Research, Demonstration and Innovation, Federal Transit Administration

Rose McMurray, Associate Administrator for Traffic Safety Programs, National Highway Traffic Safety Administration

Jerry A. Hawkins, Director, Office of Human Resources, Federal Highway Administration

Research and Special Programs Administration

Mary Karen Cronin, Director, Office of Information and Logistics Management, Research and Special Programs Administration

Elaine Joost, Deputy Director, Office of Research Policy and Technology Transfer, Research and Special Programs Administration

Edward Brigham, Associate Administrator for Management and Administration, Research and Special Programs Administration

Ellen Heup, Director, Office of Policy and Plans, Maritime Administration

John Graykowski, Deputy Administrator, Maritime Administration

Joseph Kanianthra, Director, Office of Vehicle Safety Research, National Highway Traffic Safety Administration

Herman Simms, Associate Administrator for Administration, National Highway Traffic Safety Administration

Charles White, Associate Administrator for Policy and Program Development, Federal Railroad Administration

Federal Motor Carrier Safety Administration

Brian McLaughlin, Director, Office of Policy, Plans, and Regulations, Federal Motor Carrier Safety Administration

Susan Binder, Director, Office of Legislation and Strategic Planning, Federal Highway Administration

Christine Johnson, Program Manager, Operations, Federal Highway Administration

Arthur Hamilton, Program Manager, Federal Lands Highway, Federal Highway Administration

Walter Sutton, Deputy Administrator, Federal Highway Administration

William Walsh, Associate Administrator for Plans and Policy, National Highway Transportation Safety Administration

Surface Transportation Board

Leland L. Gardner, Director, Office of Economics, Environmental Analysis, and Administration Surface Transportation Board

Joseph H. Dettmar, Deputy Director_Legal Analysis, Office of Proceedings, Surface Transportation Board

Dan G. King, Director, Office of Congressional and Public Services, Surface Transportation Board

Ellen D. Hanson, General Counsel, Surface Transportation Board

[FR Doc. 00-16115 Filed 6-23-00; 8:45 am]

BILLING CODE 4910-62-P